Executive Order 14295 of May 9, 2025

Increasing Efficiency at the Office of the Federal Register

By the authority vested in me as President by the Constitution and the laws of the United States of America, it is hereby ordered:

Section 1. Purpose. Deregulation is a critical priority for my Administration. We will foster prosperity by freeing Americans from the heavy burden of Federal regulations accumulated over decades. Although the decision about which regulations to eliminate is sometimes complex, the administrative process of removing a regulation from the Code of Federal Regulations through a rulemaking should be simple. It is not.

The Office of the Federal Register frequently takes days or, in some cases, even weeks to publish new regulatory actions. Such delay is unwarranted. The Office of the Federal Register receives final documents that are fully executed by the relevant decisionmakers—all that remains is publication. Yet despite those delays, executive departments and agencies are charged $151-$174 per column of text to publish each rule in the Federal Register. These inefficiencies inhibit my Administration's deregulatory agenda and waste taxpayer money.

Sec. 2. Increasing Efficiency in the Federal Register. (a) The Archivist of the United States (Archivist), acting through the Office of the Federal Register, shall work with the Director of the Government Publishing Office to reduce publication delays to the greatest extent feasible, including by modernizing computer systems and eliminating unnecessary bureaucracy.

(b) Within 15 days of the date of this order, the Archivist, acting through the Office of the Federal Register, shall submit a report to the Director of the Office of Management and Budget (OMB) reflecting average publication times for different categories of documents.

(c) Within 45 days of the date of this order, the Archivist, acting through the Office of the Federal Register, shall review the fee schedules for publication in the Federal Register and, working with the Director of the Government Publishing Office, take steps to ensure that fees are based on the actual costs of publication and account for increased efficiencies achieved as a result of this order. The Archivist, acting through the Office of the Federal Register, shall promptly file a report with the Director of OMB calculating the percentage difference in fees between any proposed new fee schedule and the prior one.

(d) No later than August 22, 2025, the Archivist, acting through the Office of the Federal Register, shall submit a second report to the Director of OMB reflecting average publication times between July 15, 2025, and August 15, 2025, for the same categories of documents on which the Office of the Federal Register reported under subsection (b) of this section.

Sec. 3. General Provisions. (a) Nothing in this order shall be construed to impair or otherwise affect:

(i) the authority granted by law to an executive department or agency, or the head thereof; or

(ii) the functions of the Director of the Office of Management and Budget relating to budgetary, administrative, or legislative proposals.

(b) This order shall be implemented consistent with applicable law and subject to the availability of appropriations.

(c) This order is not intended to, and does not, create any right or benefit, substantive or procedural, enforceable at law or in equity by any party against the United States, its departments, agencies, or entities, its officers, employees, or agents, or any other person.

(d) The costs for publication of this order shall be borne by the National Archives and Records Administration.

THE WHITE HOUSE,

May 9, 2025.

[FR Doc. 2025-08682

Filed 5-13-25; 8:45 am]

Billing code 7515-01-P